PENSION BENEFIT GUARANTY CORPORATION

Privacy Act of 1974; Systems of Records

AGENCY: Pension Benefit Guaranty Corporation.

ACTION: Notice of changes to systems of records and addition of routine use.

SUMMARY: The Pension Benefit Guaranty Corporation (PBGC) is proposing a new routine use applicable to all of its existing systems of records maintained pursuant to the Privacy Act of 1974, as amended (5 U.S.C. 552a), adding a new routine use to an existing system of records, and is amending its systems of records to make technical and clarifying changes.

DATES: Comments on the proposed routine uses must be received on or before July 30, 2010. The routine uses and amendments to PBGC's system of records will become effective August 9, 2010, without further notice, unless comments results in a contrary determination and a notice is published to that effect.

ADDRESSES: You may submit written comments to PBGC by any of the following methods:

• Federal eRulemaking Portal: http://www.regulations.gov. Follow the Web site instructions for submitting comments.

• E-mail: reg.comments@pbgc.gov.

• Fax: 202-326-4224.

• Mail or Hand Delivery: Legislative and Regulatory Department, Pension Benefit Guaranty Corporation, 1200 K Street, NW., Washington, DC 20005-4026.

Comments received, including personal information provided, will be posted to http://www.pbgc.gov. Copies of comments may also be obtained by writing to Disclosure Division, Office of General Counsel, Pension Benefit Guaranty Corporation, 1200 K Street, NW., Washington, DC 20005-4026, or calling 202-326-4040 during normal business hours. (TTY and TDD users may call the Federal relay service toll-free at 1-800-877-8339 and ask to be connected to 202-326-4040.)

FOR FURTHER INFORMATION CONTACT: Margaret E. Drake, Attorney, Pension Benefit Guaranty Corporation, Office of the General Counsel, 1200 K Street, NW., Washington, DC 20005-4026, 202-326-4400, extension 3228 (TTY and TDD users may call the Federal relay service toll-free at 1-800-877-8339 and ask to be connected to 202-326-4400). For access to any of the PBGC's systems of records, contact E. William FitzGerald, Disclosure Officer, Office of the General Counsel, Disclosure Division, at the above address, 202-326-4040. (These are not toll-free numbers.)

SUPPLEMENTARY INFORMATION: PBGC is proposing to alter each of its systems of records maintained pursuant to the Privacy Act of 1974, as amended, by establishing a new general routine use and adding a new routine use to an existing system of records, PBGC-6, Plan Participant and Beneficiary Data-PBGC (last updated at 68 FR 12389 (March 14, 2003)). PBGC is also amending its systems of records to make technical and clarifying changes after undertaking a periodic review of those systems as required under Appendix 1 to the Office of Management and Budget (OMB) Circular A-130, Management of Federal Information Resources (Nov. 28, 2000). The systems of records being amended are: PBGC-1, Correspondence Between the PBGC and Persons Outside of the PBGC—PBGC (last published at 60 FR 57464 (Nov. 15, 1995), PBGC-2, Disbursements—PBGC (last published at 60 FR 57464 (Nov. 15, 1995), PBGC-3, Employee Payroll, Leave and Attendance Records—PBGC (last updated at 61 FR 18184 (April 24, 1996)), PBGC-4, Employee Travel Records—PBGC (last published at 60 FR 57465 (Nov. 15, 1995)), PBGC-5, Personnel Files—PBGC, (last published at 60 FR 57466 (Nov. 15, 1995)), PBGC-6, Plan Participant and Beneficiary Data—PBGC (last updated at 68 FR 12389 (March 14, 2003)), PBGC-8, Employee Relations Files—PBGC (last published at 60 FR 57467 (Nov. 15, 1995)), PBGC-9, Plan Participant and Beneficiary Address Identification File—PBGC (last published at 60 FR 57468 (Nov. 15, 1995)), PBGC-10, Administrative Appeals File—PBGC (last published at 60 FR 57469 (Nov. 15, 1995)), PBGC-11, Call Detail Records—PBGC (last published at 60 FR 57469 (Nov. 15, 1995)), PBGC-12, Security Investigation Records—PBGC (last updated at 66 FR 17587 (April 2, 2001)), PBGC-13, Debt Collection—PBGC (last updated at 65 FR 25398 (May 1, 2000)), PBGC-14, My Plan Administration Account Authentication Records—PBGC (last published at 68 FR 74656 (Dec. 24, 2003)), PBGC-15, Emergency Notification Records—PBGC (last published at 70 FR 30497 (May 26, 2005)), PBGC-16, Employee Online Directory—PBGC (last published at 73 FR 51024 (Aug. 29, 2008)), and PBGC-17, Office of Inspector General Investigative File System—PBGC (last published at 74 FR 14168 (March 30, 2009)).

General Routine Uses

PBGC is proposing to amend its Prefatory Statement of General Routine Uses by establishing a new general routine use that will apply to all its systems of records. PBGC's Prefatory Statement of General Routine Uses was last published at 60 FR 57462, 57563-57564 (Nov. 15, 1995).

Proposed routine use G9 will permit PBGC to respond effectively to a suspected or confirmed data breach by allowing for the disclosure of information to those individuals affected by the breach, as well as to others who are in a position to assist in PBGC's response efforts, either by a role in preventing, minimizing or remedying harms from the breach. PBGC is proposing to establish the routine use to comply with the guidance issued by OMB in memorandum M-07-16, Safeguarding Against and Responding to the Breach of Personally Identifiable Information (May 22, 2007), and the President's Identity Theft Task Force's Strategic Plan (April 11, 2007), published at http://www.identitytheft.gov/reports/StrategicPlan.pdf.

The Privacy Act authorizes PBGC to adopt routine uses that are consistent with the purpose for which information is collected. 5 U.S.C. 552a(a)(7) and (b)(3). OMB, in its initial Privacy Act guidance, also recognized routine uses that are necessary and proper for the efficient conduct of the government and in the best interest of both the individual and the public. 40 FR 28948, 28953 (July 9, 1975). A routine use to provide for disclosure in connection with response and remedial efforts in the event of a breach of federal data would qualify as a necessary and proper use of information. Proposed routine use G9 will apply to all systems of records.

Revising Routine Uses in PBGC System of Records PBGC-3 and PBGC-6

PBGC-3

For PBGC-3, PBGC is deleting a routine use for disclosure to the Department of Labor that is no longer necessary.

PBGC-6

PBGC is proposing to revise routine use 9 under its system of records entitled PBGC-6, Plan Participant and Beneficiary Data—PBGC that was last revised at 68 FR 12389, 12390 (Mar. 14, 2003). The revised routine use will permit PBGC to periodically disclose the names and addresses of participants and beneficiaries to licensees of the United States Postal Service (USPS) to update the address records from change-of-address information submitted to USPS by customers who are relocating. The existing routine use limits disclosure of names and addresses to USPS licensees when “mail sent to the individual at the last known address is returned as undeliverable.”

This revision is necessary because of a change in USPS mailing standards that require bulk mailers such as PBGC to update addresses within 95 days before any mailing from change-of-address information submitted to USPS. See 39 CFR 111.1 (2009), incorporating by reference the Mailing Standards of the United States Postal Service, Domestic Mail Manual (DMM) § 443.3.9.1, at http://pe.usps.com/text/dmm300/443.htm. To meet the revised mailing standard, PBGC will use the National Change of Address Linkage System (NCOA Link) offered through licensees of the USPS. NCOA Link is a USPS-approved method for updating addresses. See DMM § 443.3.9.2.

To protect the privacy of individuals, disclosure of PBGC records under the routine use will be made under a contract that subjects licensees of the Postal Service and its employees to criminal penalties under the Privacy Act. The contract will provide that the records disclosed by PBGC will be used exclusively for updating addresses under NCOA Link and must be returned to PBGC or destroyed when the process is completed. The records will be exchanged electronically in an encrypted format.

Technical and Clarifying Amendments

In addition to establishing new general routine use G9, PBGC is amending PBGC-1, Correspondence Between the PBGC and Persons Outside of the PBGC—PBGC, PBGC-2, Disbursements—PBGC, PBGC-3, Employee Payroll, Leave and Attendance Records—PBGC, PBGC-4, Employee Travel Records—PBGC, PBGC-5, Personnel Files—PBGC, PBGC-6, Plan Participant and Beneficiary Data—PBGC, PBGC-8, Employee Relations Files—PBGC, PBGC-9, Plan Participant and Beneficiary Address Identification File—PBGC, PBGC-10, Administrative Appeals File—PBGC, PBGC-11, Call Detail Records—PBGC, PBGC-12, Security Investigation Records—PBGC, PBGC-13, Debt Collection—PBGC, PBGC-14, My Plan Administration Account Authentication Records—PBGC, PBGC-15, Emergency Notification Records—PBGC, PBGC-16, Employee Online Directory—PBGC, and PBGC-17, Office of Inspector General Investigative File System—PBGC, to correct and update the categories of individuals covered by the system, categories of records in the system, purposes, storage, retrievability, safeguards, retention and disposal, records in the system, and record source categories. The amendments clarify the nature and purposes of the systems of records and reflect changes that have occurred since they were last published.

For the convenience of the public, PBGC's Prefatory Statement of General Routine Uses with proposed general routine use G9 and the amended systems of records are published in full below with changes italicized.

Issued in Washington, DC, this 24 day of June 2010.
Vincent Snowbarger,
Acting Director, Pension Benefit Guaranty Corporation.

Prefatory Statement of General Routine Uses

The following routine uses are incorporated by reference into various systems of records, as set forth below.

G1. Routine Use—Law Enforcement: In the event that a system of records maintained by PBGC to carry out its functions indicates a violation or potential violation of law, whether criminal, civil, or regulatory in nature, and whether arising by general statute or particular program pursuant thereto, the relevant records in the system of records may be disclosed to the appropriate agency, whether federal, state, local, or foreign, charged with the responsibility of investigating or prosecuting such violation or charged with enforcing or implementing the statute, or rule, regulation, or order issued pursuant thereto.

G2. Routine Use—Disclosure When Requesting Information: A record from this system of records may be disclosed to a federal, state, or local agency or to another public or private source maintaining civil, criminal, or other relevant enforcement information or other pertinent information, if and to the extent necessary to obtain information relevant to a PBGC decision concerning the hiring or retention of an employee, the retention of a security clearance, or the letting of a contract.

G3. Routine Use—Disclosure of Existence of Record Information: With the approval of the Director, Human Resources Department (or his or her designee), the fact that this system of records includes information relevant to a federal agency's decision in connection with the hiring or retention of an employee, the retention of a security clearance, the letting of a contract, or the issuance of a license, grant, or other benefit may be disclosed to that federal agency.

G4. Routine Use—Disclosure in Litigation: A record from this system of records may be disclosed in a proceeding before a court or other adjudicative body in which PBGC, an employee of the PBGC in his or her official capacity, or an employee of PBGC in his or her individual capacity if the PBGC (or the Department of Justice (DOJ)) has agreed to represent him or her is a party, or the United States or any other federal agency is a party and the PBGC determines that it has an interest in the proceeding, if the PBGC determines that the record is relevant to the proceeding and that the use is compatible with the purpose for which PBGC collected the information.

G5. Routine Use—Disclosure to the Department of Justice in Litigation: When PBGC, an employee of PBGC in his or her official capacity, or an employee of PBGC in his or her individual capacity whom PBGC has agreed to represent is a party to a proceeding before a court or other adjudicative body, or the United States or any other federal agency is a party and PBGC determines that it has an interest in the proceeding, a record from this system of records may be disclosed to the DOJ if PBGC is consulting with the DOJ regarding the proceeding or has decided that the DOJ will represent PBGC, or its interest, in the proceeding and PBGC determines that the record is relevant to the proceeding and that the use is compatible with the purpose for which PBGC collected the information.

G6. Routine Use—Disclosure to OMB: A record from this system of records may be disclosed to the OMB in connection with the review of private relief legislation as set forth in OMB Circular No. A-19 at any stage of the legislative coordination and clearance process as set forth in that Circular.

G7. Routine Use—Congressional Inquiries: A record from this system of records may be disclosed to a congressional office from the record of an individual in response to an inquiry from the congressional office made at the request of the individual.

G8. Routine Use—Disclosure to Labor Organizations: A record from this system of records may be disclosed to an official of a labor organization recognized under 5 U.S.C. Chapter 71 when necessary for the labor organization to perform properly its duties as the collective bargaining representative of PBGC employees in the bargaining unit.

G9. Routine Use—Disclosure in Response to a Federal Data Breach. A record from this system of records may be disclosed to appropriate agencies, entities, and persons when (1) PBGC suspects or has confirmed that the security or confidentiality of information in the system of records has been compromised; (2) PBGC has determined that as a result of the suspected or confirmed compromise there is a risk of harm to economic or property interests, identity theft or fraud, or harm to the security or integrity of this system or other systems or programs (whether maintained by PBGC or another agency or entity) that rely upon the compromised information; and (3) the disclosure made to such agencies, entities, and persons is reasonably necessary to assist in connection with PBGC's efforts to respond to the suspected or confirmed compromise and prevent, minimize, or remedy such harm.

PBGC-1

System name:

Correspondence Between PBGC and Persons Outside the PBGC—PBGC.

System classification:

Not Applicable.

System location:

Pension Benefit Guaranty Corporation, 1200 K Street, NW., Washington, DC 20005-4026.

Categories of individuals covered by the system:

Individuals who have corresponded with PBGC and with components of PBGC and individuals who have received replies in response to their correspondence with PBGC.

Categories of records in the system:

Correspondence containing the name and address of the correspondent and other information regarding various aspects of PBGC and Title IV of the Employee Retirement Income Security Act of 1974, as amended.

Authority for maintenance of the system:

29 U.S.C. 1302.

Purpose(s):

This system of records is maintained for programmatic and regulatory purposes (including use in adjudicatory proceedings).

Routine uses of records maintained in the system, including categories of users and the purposes of such uses:

General Routine Uses G1 through G7, and G9 (see Prefatory Statement of General Routine Uses) apply to this system of records.

Disclosure to consumer reporting agencies:

None.

Policies and practices for storing, retrieving, accessing, retaining, and disposing of records in the system:

Storage:

Records are maintained manually in file folders and/or in electronic form.

Retrievability:

Records are indexed by name of correspondent or plan.

Safeguards:

Paper records are kept in file folders in areas of restricted access that are locked after office hours. Electronic records are stored on computer networks and protected by assigning user identification numbers to individuals needing access to the records and by passwords set by authorized users that must be changed periodically.

Retention and disposal:

General requests for information that do not involve administrative action, policy decisions, or special research are destroyed 1 year after reply. Correspondence with members of Congress is destroyed 1 year after the end of the fiscal year in which it is received or sent.

System manager(s) and address:

Correspondence is kept by the director of the department to which the correspondence was addressed or the director of the department who replied. These department directors are: General Counsel, Office of the General Counsel; Inspector General, Office of Inspector General; Chief Counsel, Office of Chief Counsel; Director, Policy and Research Department; Director, Communications and Public Affairs Department; Director, Financial Operations Department; Director, Budget and Organizational Performance Department; Director, Procurement Department; Director, Contract and Controls Review Department; Chief Information Officer, Office of Information Technology; Director, Department of Insurance Supervision and Compliance; Director, Facilities and Services Department; Director, Human Resources Department; Director, Benefits Administration and Payment Department. Correspondence addressed to or replied to by the Office of the Director is kept by the Deputy Director and Chief Operating Officer. PBGC's address is: 1200 K Street, NW., Washington, DC 20005-4026.

Notification procedure:

Procedures are detailed in PBGC regulations: 29 CFR Part 4902.

Record access procedures:

Same as notification procedure.

Contesting record procedures:

Same as notification procedure.

Record source categories:

Individuals writing to PBGC and PBGC's responses.

Exemptions claimed for the system:

None.

PBGC-2

System name:

Disbursements—PBGC.

Security classification:

Not applicable.

System location:

Pension Benefit Guaranty Corporation, 1200 K Street, NW., Washington, DC 20005-4026.

Categories of individuals covered by the system:

Individuals who are consultants and vendors to PBGC.

Categories of records in the systems:

Payment vouchers, including SF 1082.

Authority for maintenance of the system:

29 U.S.C. 1302; 44 U.S.C. 3101.

Purpose(s):

This system of records is maintained for use in determining amounts to be paid and in effecting payments by the Department of the Treasury to consultants and vendors.

Routine uses of records maintained in the system, including categories of users and the purposes of such uses:

1. A record from this system of records may be transmitted to the United States Department of Treasury to effect payments to consultants and vendors.

2. General Routine Uses G1 through G7, and G9 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained manually in file folders and/or in electronic format, including magnetic tapes or discs.

Retrievability:

Records are indexed by name.

Safeguards:

Records are kept in file cabinets in areas of restricted access that are locked after office hours. Electronic records are stored on computer networks and are protected by assigning user identification numbers to individuals needing access to the records and by passwords set by authorized users that must be changed periodically.

Retention and disposal:

Records created after June 30, 1975, are destroyed 6 years and 3 months after date of voucher. Records may also be maintained on PBGC's network back-up tapes.

System manager(s) and address:

Director, Financial Operation Department, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Individuals who are consultants and vendors to PBGC.

Exemptions claimed for the system:

None.

PBGC-3

System name:

Employee Payroll, Leave, and Attendance Records—PBGC.

Security classification:

Not applicable.

System location:

Pension Benefit Guaranty Corporation, 1200 K Street, NW., Washington, DC 20005-4026.

Categories of individuals covered by the system:

Current and former employees of PBGC.

Categories of records in the system:

Names; addresses; social security numbers and employee numbers; earnings records; leave status and data; jury duty data; military leave data; time and attendance records, including number of regular, overtime, holiday, and compensatory hours worked; co-owner and/or beneficiary of bonds; marital status and number of dependents; and notifications of personnel actions. The records listed herein are included only as pertinent or applicable to the individual employee.

Authority for maintenance of the system:

29 U.S.C. 1302; 44 U.S.C. 3101.

Purpose(s):

This system of records is maintained to perform functions involving employee leave, attendance, and payments, including determinations relating to the amounts to be paid to employees, the distribution of pay according to employee directions (for savings bonds and allotments, to financial institutions, and for other authorized purposes), and tax withholdings and other authorized deductions, and for statistical purposes.

Routine uses of records maintained in the system, including categories of users and the purposes of such uses:

1. A record from this system of records may be disclosed to the United States Department of the Interior to effect payments to employees.

2. General Routine Uses G1 through G9 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained manually in file folders and/or in automated form, including magnetic tapes or discs.

Retrievability:

Records are indexed by name and/or employee or social security number.

Safeguards:

Manual records are kept in file cabinets in areas of restricted access that are locked after office hours. Electronic records are stored on computer networks and protected by assigning user identification numbers to individuals needing access to the records and by passwords set by authorized users that must be changed periodically.

Retention and disposal:

Records are maintained for various periods of time, as provided in National Archives and Records Administration General Records Schedule 2. Records are also maintained on PBGC's network back-up tapes.

System manager(s) and address:

Director, Financial Operations Department, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Subject individual and the Office of Personnel Management.

Exemptions claimed for the system:

None.

PBGC-4

System name:

Employee Travel Records—PBGC.

System classification:

Not applicable.

System location:

Pension Benefit Guaranty Corporation, 1200 K Street, NW., Washington, DC 20005-4026.

Categories of individuals covered by the system:

Current and former employees of PBGC who have filed travel vouchers and related documents.

Categories of records in the system:

Travel vouchers and related documents filed by employees of PBGC.

Authority for maintenance of the system:

5 U.S.C. 6701; 29 U.S.C. 1302; 44 U.S.C. 3101.

Purpose(s):

This system of records is maintained to perform functions related to travel on behalf of PBGC, including determinations involving travel authorization and arrangements and documentation of travel advances and reimbursements.

Routine uses of records maintained in the system, including categories of users and the purposes of such uses:

1. A record from this system of records may be disclosed to the United States Department of Treasury to effect reimbursement of employees for travel expenses.

2. General Routine Uses G1 through G9 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained manually in file folders and/or in electronic format, including magnetic tapes and discs.

Retrievability:

Records are indexed by name.

Safeguards:

Records are kept in file cabinets in areas of restricted access that are locked after office hours. Electronic records are stored on computer network and protected by assigning user identification numbers to individuals needing access to the records and by passwords set by authorized users that must be changed periodically.

Retention and disposal:

Records are maintained for various periods of time, as provided in National Archives and Records Administration General Records Schedule 9. Records are also maintained on PBGC's network back-up tapes.

System manager(s) and address:

Director, Financial Operations Department, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Current and former PBGC employee vouchers.

Exemptions claimed for the system:

None.

PBGC-5

System name:

Personnel Files—PBGC.

System classification:

Not applicable.

System location:

Pension Benefit Guaranty Corporation, 1200 K Street, NW., Washington, DC 20005-4026.

Categories of individuals covered by the system:

Employees and applicants for employment with PBGC.

Categories of records in the system:

Personnel records that PBGC maintains, including applications and related information for attorneys maintained by the Office of the General Counsel. (Records included in the permanent Official Personnel Folder are maintained as a system of records by the Office of Personnel Management (OPM/GOVT-1) and are not included in this system of records.)

Authority for maintenance of the system:

29 U.S.C. 1302; 44 U.S.C. 3101.

Purpose(s):

This system of records is used in carrying out authorized personnel functions, including the evaluation of qualifications; determinations about status, eligibility, and rights and benefits under pertinent laws and regulations governing federal employment; and computations of length of service.

Routine uses of records maintained in the system, including categories of users and the purposes of such uses:

General Routine Uses G1 through G9 (see Prefatory Statement of General Routine Uses) apply to this system of records.

Disclosure to consumer reporting agencies:

None.

Policies and practices for storing, retrieving, accessing, retaining, and disposing of records in the system:

Storage:

Records are maintained in paper form in file folders and/or in electronic form, including magnetic tapes and discs.

Retrievability:

Records are indexed by name.

Safeguards:

Access is restricted to agency personnel or contractors whose responsibilities require access. Paper records are kept in areas of restricted access that are locked after office hours. Electronic records are stored on computer networks and protected by assigning user identification numbers to individuals needing access to the records and by passwords set by authorized users that must be changed periodically.

Retention and disposal:

Temporary personnel file records are destroyed when superseded or obsolete, or upon separation or transfer of employee from PBGC. Applications for employment are destroyed after the receipt of an OPM inspection report or 2 years after date of application, whichever is sooner. Applications for training are destroyed 5 years after completion of a specific training program.

Records are also maintained on PBGC's network back-up tapes.

System manager(s) and address:

Director, Human Resources Department, and Administrative Officer, Office of the General Counsel, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Subject individuals, present and past employers, and references given by any subject individuals.

Exemptions claimed for the system:

None.

PBGC-6

System name:

Plan Participant and Beneficiary Data—PBGC.

Security classification:

Not applicable.

System location:

Pension Benefit Guaranty Corporation, 1200 K Street, NW., Washington, DC 20005-4026 and/or field benefit administrator, plan administrator, and paying agent worksites.

Categories of individuals covered by the system:

Participants and beneficiaries in terminating and terminated pension plans covered by Title IV of the Employee Retirement Income Security Act of 1974, as amended (“ERISA”).

Categories of records in the system:

Names, addresses, telephone numbers, sex, social security numbers and other Social Security Administration information, dates of birth, dates of hire, salary, marital status, domestic relations orders, time of plan participation, eligibility status, pay status, benefit data, health-related information, insurance information where plan benefits are provided by private insurers, initial and final PBGC determinations (29 CFR 4003.21 and 4003.59). The records listed herein are included only as pertinent or applicable to the individual plan participant or beneficiary.

Authority for maintenance of the system:

29 U.S.C. 1055, 1056(d)(3), 1302, 1321, 1322, 1322a, 1341, 1342 and 1350; 44 U.S.C. 3101.

Purpose(s):

This system of records is maintained for use in determining whether participants and beneficiaries are eligible for benefits under plans covered by Title IV of ERISA, the amounts of benefits to be paid, making benefit payments, and collecting benefit overpayments. Names, addresses, and telephone numbers are used to survey customers to measure their satisfaction with PBGC's benefit payment services and to track (for follow up) those who do not respond to surveys.

Routine uses of records maintained in the system, including categories of users and the purposes of such uses:

1. A record from this system of records may be disclosed to third parties, such as banks, insurance companies, or trustees, to make benefit payments to plan participants and beneficiaries.

2. A record from this system of records may be disclosed, in furtherance of proceedings under Title IV of ERISA, to a contributing sponsor (or other employer who maintained the plan), including any predecessor or successor, and any member of the same controlled group.

3. A record from this system of records may be disclosed, upon request for a purpose authorized under Title IV of ERISA, to an official of a labor organization recognized as the collective bargaining representative of the individual about whom a request is made.

4. Names, addresses, and telephone numbers of participants and beneficiaries and information pertaining to debts owed by such participants and beneficiaries to PBGC may be disclosed to a debt collection agency or firm to collect a claim. Disclosure shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

5. The name and social security number of a participant employed or formerly employed as a pilot by a commercial airline may be disclosed to the Federal Aviation Administration (FAA) to obtain information relevant to the participant's eligibility or continued eligibility for disability benefits.

6. Names and social security numbers of plan participants and beneficiaries may be disclosed to the Internal Revenue Service (IRS) to obtain current addresses from tax return information and to the Social Security Administration (SSA) to obtain current addresses. Such information will be disclosed only if PBGC has no address for an individual or if mail sent to the individual at the last known address is returned as undeliverable.

7. Names and last known addresses may be disclosed to an official of a labor organization recognized as the collective bargaining representative of participants for posting in union halls or for other means of publication to obtain current addresses of participants and beneficiaries. Such information will be disclosed only if PBGC has no address for an individual or if mail sent to the individual at the last known address is returned as undeliverable.

8. Names, social security numbers, last known addresses, and dates of birth and death may be disclosed to private firms and agencies that provide locator services, including credit reporting agencies and debt collection firms or agencies, to locate participants and beneficiaries. Such information will be disclosed only if PBGC has no address for an individual or if mail sent to the individual at the last known address is returned as undeliverable. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned at the conclusion of the locating effort.

9. Names and addresses may be disclosed to licensees of the United States Postal Service (USPS) to obtain current addresses under the USPS's National Change of Address Linkage System (NCOA Link). Disclosure shall be made only under a contract that binds the licensee of the Postal Service and its employees to the criminal penalties of the Privacy Act. The contract shall provide that the records disclosed by PBGC shall be used exclusively for updating addresses under NCOA Link and must be returned to PBGC or destroyed when the process is completed. The records will be exchanged electronically in an encrypted format.

10. Names and last known addresses may be disclosed to other participants in, and beneficiaries under, a pension plan to obtain the current addresses of individuals. Such information will be disclosed only if PBGC has no address for an individual or if mail sent to the individual at the last known address is returned as undeliverable.

11. Names and last known addresses of participants and beneficiaries, and the names and addresses of participants' former employers, may be disclosed to the public to obtain current addresses of the individuals. Such information will be disclosed to the public only if PBGC is unable to make benefit payments to the participants and beneficiaries because the address it has does not appear to be current or correct.

12. The name of a participant's pension plan, the actual or estimated amount of a participant's benefit under Title IV of ERISA, the form(s) in which the benefit is payable, and whether the participant is currently receiving benefit payments under the plan or (if not) the earliest date(s) such payments could commence may be disclosed to the participant's spouse, former spouse, child, or other dependent solely to obtain a qualified domestic relations order under 29 U.S.C. 1056(d) and 26 U.S.C. 414(p). PBGC will disclose the information only upon the receipt of a notarized, written request by a prospective alternate payee that describes the requester's relationship to the participant and states that the information will be used solely to obtain a qualified domestic relations order under state domestic relations law. PBGC will notify the participant of any information disclosed to a prospective alternate payee under this routine use. Any person who knowingly and willfully requests or obtains any record concerning an individual under false pretenses is subject to a criminal penalty under 5 U.S.C. 552a(i)(3).

13. Information from a participant's initial determination under 29 CFR 4003.1(b) (excluding the participant's address, telephone number, social security number, and any sensitive medical information) may be disclosed to a participant's spouse, former spouse, child, or other dependent who is an alternate payee under a qualified domestic relations order issued pursuant to 29 U.S.C. 1056(d) and 26 U.S.C. 414(p) to explain how PBGC determined the benefit due the alternate payee so that the alternate payee can pursue an administrative appeal of the benefit determination under 29 CFR 4003.51. PBGC will notify the participant of the information disclosed to an alternate payee under this routine use.

14. The names, addresses, social security numbers, and dates of birth of eligible PBGC pension recipients may be disclosed to the Department of Treasury and the Department of Labor to implement the income tax credit for health insurance costs under 26 U.S.C. 35 and the program for advance payment of the tax credit under 26 U.S.C. 7527.

15. The names, addresses, social security numbers, and dates of birth of eligible PBGC pension recipients residing in a particular state may be disclosed to the state's workforce agency if the agency received a National Emergency Grant from the Department of Labor under the Workforce Investment Act of 1988 to provide health insurance coverage assistance and support services for state residents under 29 U.S.C. 2918(a) and (f).

16. General Routine Uses G1 and G4 through G7, and G9 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained in paper and electronic form.

Retrievability:

Records are indexed by plan and participant and/or beneficiary name. Customer satisfaction survey responses are aggregated for statistical purposes after they have been received by PBGC and are not retrievable by a participant or beneficiary's name or other assigned identifier.

Safeguards:

Paper records are kept in file folders in areas of restricted access that are locked after office hours. Electronic records are stored on computer networks and protected by assigning user identification numbers to individuals needing access to the records and by passwords set by authorized users that must be changed periodically.

Retention and disposal:

Records for plan participants are transferred to the Washington National Federal Records Center 6 months after either the final payment to a participant and/or beneficiary or PBGC's final determination that a participant or beneficiary is not entitled to any benefits and are destroyed 7 years after such payment or determination.

Records are also maintained on PBGC's network back-up tapes.

System manager(s) and address:

Director, Benefit Administration and Payments Department, Pension Benefit Guaranty Corporation, 1200 K Street, NW., Washington, DC 20005-4026.

Notification procedure:

Procedures are detailed in PBGC's regulations: 29 CFR part 4902.

Record access procedures:

Same as notification procedure.

Contesting records procedure:

Same as notification procedure.

PBGC-8

System name:

Employee Relations Files 8-PBGC.

System classification:

Not applicable.

System location:

Pension Benefit Guaranty Corporation, 1200 K Street, NW., Washington, DC 20005-4026.

Categories of individuals covered by the system:

Current and former PBGC employees with respect to whom PBGC has initiated a reduction-in-force or a disciplinary or performance-based action and PBGC employees who have initiated grievances under an administrative grievance procedure or under an applicable collective bargaining agreement.

Categories of records in the system:

Notices of reductions-in-force or disciplinary or performance-based actions and employees' replies to such notices, employees' notices of grievance and appeal, investigative reports, records of proceedings, appeal decisions, and related information. (Records of actions proposed or taken in accordance with 5 CFR Part 315 (Subpart H or I) or Part 752 are maintained as a system of records by the Office of Personnel Management (OPM) (OPM/GOVT-3) and are not included in this system of records.)

Authority for maintenance of the system:

29 U.S.C. 1302; 44 U.S.C. 3101.

Purpose(s):

This system of records is maintained for use in decision-making involving grievances and appeals by PBGC employees regarding compensation, benefits, or other terms and conditions of employment, including terms and conditions of employment under an applicable collective bargaining agreement, and reductions-in-force and certain disciplinary and performance-based actions involving PBGC employees.

Routine uses of records maintained in the system, including categories of users and the purposes of such uses:

1. A record from this system of records may be disclosed to OPM, the Merit Systems Protection Board, the Federal Labor Relations Authority, or the Equal Employment Opportunity Commission to carry out its authorized functions (under 5 U.S.C. 1103, 1204, 7105, and 42 U.S.C. 2000e-4, in that order).

2. General Routine Uses G1 through G9 (see Prefatory Statement of General Routine Uses) apply to this system of records.

Disclosure to consumer reporting agencies:

None.

Policies and practices for storing, retrieving, accessing, retaining, and disposing of records in the system:

Storage:

Records are maintained in paper form in file folders and/or in electronic form, including magnetic tapes or discs.

Retrievability:

Records are indexed by employee name.

Safeguards:

Access is restricted to agency personnel or contractors whose responsibilities require access. Paper records are kept in areas of restricted access that are locked after office hours. Electronic records are stored on computer networks and protected by assigning user identification numbers to individuals needing access to the records and by passwords set by authorized users that must be changed periodically.

Retention and disposal:

Registers and related records used to effect reduction-in-force actions are maintained as provided in the National Archives and Record Administration General Records Schedule 1. Records relating to grievances raised by employees, except Equal Employment Opportunity complaints, are maintained for 7 years after the close of the matter as provided in the National Archives and Record Administration General Records Schedule 1 and PBGC Schedule 1.2. Records related to disciplinary or performance based actions are maintained for 7 years as provided in the National Archives and Record Administration General Records Schedule 1 and PBGC Schedule 1.2.

Records are also maintained on PBGC's network back-up tapes.

System manager(s) and address:

Director, Human Resources Department, Pension Benefit Guaranty Corporation, 1200 K Street, NW., Washington, DC 20005-4026.

Notification procedure:

Procedures are detailed in PBGC regulations: 29 CFR part 4902.

Record access procedures:

Same as notification procedure.

Contesting record procedures:

Same as notification procedure.

Record source categories:

Records in this system of records are provided by an affected employee, the employee's supervisors, other PBGC employees, and from investigations and interviews.

Exemptions claimed for the system:

None.

PBGC-9

System name:

Plan Participant and Beneficiary Address Identification File—PBGC.

System classification:

Not applicable.

System location:

Pension Benefit Guaranty Corporation, 1200 K Street, NW., Washington, DC 20005-4026.

Categories of individuals covered by the system:

Certain participants and beneficiaries in terminating and terminated pension plans covered by Title IV of the Employee Retirement Income Security Act of 1974, as amended.

Categories of records in the system:

Names, social security numbers, addresses, and names of pension plans.

Authority for maintenance of the system:

26 U.S.C. 6103 and 26 CFR 301.6103(l)(2)-3; 29 U.S.C. 1055, 1056(d)(3), 1302, 1321, 1322, 1322a, 1341, 1342, and 1350; 44 U.S.C. 3101.

Purpose(s):

This system of records is maintained to locate participants and beneficiaries under pension plans covered by Title IV of ERISA.

Routine uses of records maintained in the system, including categories of users and the purposes of such uses:

1. A record from this system of records may be disclosed only to a person to whom disclosure is permitted by 26 U.S.C. 6103 and 26 CFR 301.6103(i)-1.

2. General Routine Uses G1 and G4 through G7, and G9 (see Prefatory Statement of General Routine Uses) apply to this system of records.

Disclosure to consumer reporting agencies:

None.

Policies and practices for storing, retrieving, accessing, retaining, and disposing of records in the system:

Storage:

Records are maintained manually in file folders and/or in electronic form, including magnetic tapes or discs.

Retrievability:

Records are indexed by participant or beneficiary name and social security number.

Safeguards:

Records are kept in locked file cabinets in areas of restricted access under procedures that meet IRS safeguarding standards. Electronic records are stored on computer networks and protected by assigning user identification numbers to individuals needing access to the records and by passwords set by authorized users that must be changed periodically.

Retention and disposal:

Records of a participant or beneficiary who verifies the address are transferred to PBGC-6. All other records are retained for 2 years from the date the request was sent to the IRS and then are sent to the IRS for disposal or are destroyed.

System manager(s) and address:

Director, Benefits Administration and Payments Department, Pension Benefit Guaranty Corporation, 1200 K Street, NW., Washington, DC 20005-4026.

Notification procedure:

Procedures are detailed in PBGC regulations: 29 CFR part 4902.

Record access procedures:

Same as notification procedure.

Contesting record procedures:

Same as notification procedure.

Record source categories:

PBGC-6 and the IRS.

Exemptions claimed for the system:

None.

PBGC-10

System name:

Administrative Appeals File—PBGC.

System classification:

Not applicable.

System location:

Pension Benefit Guaranty Corporation, 1200 K Street, NW., Washington, DC 20005-4026.

Categories of individuals covered by the system:

Participants and beneficiaries in terminated pension plans covered by Title IV of the Employee Retirement Income Security Act of 1974, as amended, who have filed administrative appeals with PBGC's Appeals Board pursuant to 29 CFR 4003.1(b)(6), (7), (8), or (10), Rules for Administrative Review of Agency Decisions.

Categories of records in the system:

Names of pension plans, names of participants, beneficiaries, and alternate payees, and personal information such as addresses, social security numbers, sex, dates of birth, dates of hire, salary, marital status (including domestic relations orders), medical records, dates of commencement of plan participation or employment, statements regarding employment, dates of termination of plan participation or retirement, benefit payment data, pay status, Social Security Administration (“SSA”) information, insurance claims and awards, workman's compensation awards, calculations of benefit amounts, calculations of amounts subject to recapture, correspondence and other information relating to appeals, and initial and final PBGC determinations (29 CFR4003.22 and 4003.59). The records listed herein are included only as pertinent or applicable to the individual participant, beneficiary, and/or alternate payee.

Authority for maintenance of the system:

29 U.S.C. 1055, 1056(d)(3), 1302, 1321, 1322, 1322a, 1341, 1342, 1345, and 1350.

Purpose(s):

This system of records is maintained for use in appeals of matters specified in 29 CFR 4003.1(b)(6), (7), (8), and (10) and in subsequent agency actions.

Routine uses of records maintained in the system, including categories of users and the purposes of such uses:

1. General Routine Uses G1, G4, G5, G6, G7, and G8 apply to this system of records.

2. A record from this system of records may be disclosed to third parties who may be aggrieved by the decision of the Appeals Board under 29 CFR 4003.57, including disclosure to the contributing sponsor (or other employer who maintained the plan) including any predecessor or successor, and any member of the same controlled group.

3. A record from this system of records may be disclosed, upon request, to an attorney representative or a non-attorney representative who has a power of attorney for the subject individual, under 29 CFR 4003.6.

4. A record from this system of records may be disclosed to third parties, such as banks, insurance companies, and trustees, to make benefit payments to plan participants and beneficiaries.

5. A record from this system of records may be disclosed to third parties, such as contractors and expert witnesses, to obtain expert analysis of an issue necessary to resolve an appeal.

6. The name and social security number of a participant may be disclosed to an official of a labor organization recognized as the collective bargaining representative of the participant to obtain information relevant to the resolution of an appeal.

Disclosure to consumer reporting agencies:

None.

Policies and practices for storing, retrieving, accessing, retaining and disposing of records in the system:

Storage:

Records are maintained manually in file folders and/or in electronic form.

Retrievability:

Records are indexed by participant or beneficiary name, plan name, and appeal number or extension request number.

Safeguards:

Paper records are kept in file folders in areas of restricted access that are locked after office hours. Electronic records are stored on computer networks and protected by assigning user identification numbers to individuals needing access to the records and by passwords set by authorized users that must be changed periodically.

Retention and disposal:

Paper records for a closed appeal file are retained for 30 days after the Appeals Board's final determination. Thereafter, the closed appeal file is transferred to a records storage facility and destroyed 40 years later.

Electronic records are destroyed or deleted 135 years after a determination that all participants have been paid.

System manager(s) and address:

Manager of the Appeals Division, Office of the General Counsel, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Information in this system of records may be received from the plan administrator, the contributing sponsor (or other employer who maintained the plan), including any predecessor, successor, or member of the same controlled group, the labor organization recognized as the collective bargaining representative of a participant, the SSA, a third party affected by the decision, and the participant or beneficiary.

Exemptions claimed for the system:

None.

PBGC-11

System name:

Call Detail Records—PBGC.

System classification:

Not applicable.

System location:

Pension Benefit Guaranty Corporation, 1200 K Street, NW., Washington, DC 20005-4026.

Categories of individuals covered by the system:

Employees, contract employees, and consultants of PBGC, and officials of a labor organization representing PBGC employees who have made long distance or other toll calls from PBGC telephones or PBGC-issued portable electronic devices.

Categories of records in the system:

Records relating to use of PBGC telephones and PBGC-issued portable electronic devices to place toll calls and receive calls; records indicating assignment of telephone extension numbers PBGC-issued portable electronic devices to employees and other covered individuals; records relating to location of telephone extensions.

Authority for maintenance of the system:

29 U.S.C. 1302; 44 U.S.C. 3101.

Purpose(s):

This system of records is maintained to control the costs of operating PBGC's telephone system by, among other things, monitoring telephone usage by PBGC employees and other covered individuals and obtaining reimbursement for unauthorized toll calls.

Routine uses of records maintained in the system, including categories of users and the purposes of such uses:

1. A record from this system of records may be disclosed to contract employees and consultants of PBGC and officials of a labor organization representing PBGC employees to determine individual responsibility for telephone calls, but only to the extent that such disclosures consist of comprehensive lists of called numbers and length of calls.

2. General Routine Uses G1, G3, G4, G5, G7 through G9 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained manually in file folders and in electronic form, including magnetic tapes and discs.

Retrievability:

Records are retrieved by name of employee or other covered individual, telephone extension number, or telephone number called.

Safeguards:

Manual records are kept in areas of restricted access that are locked after office hours. Electronic records are stored on computer networks and protected by assigning user identification numbers to individuals needing access to the records and by passwords set by authorized users that must be changed periodically.

Retention and disposal:

Records are retained for 2 years and then destroyed.

Records are also maintained on PBGC's network back-up tapes.

System manager(s) and address:

Director, Office of Information Technology, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Telephone and PBGC-issued portable electronic device assignment records; call detail listings; private telephone billing information.

Exemptions claimed for the system:

None.

PBGC-12

System name:

Personnel Security Investigation Records—PBGC.

Security classification:

Not applicable.

System location:

Pension Benefit Guaranty Corporation, 1200 K Street NW., Washington, DC 20005-4026.

Categories of individuals covered by the system:

Current and former employees and applicants for employment with PBGC. Current and former individuals who work, or who are being considered for work, for PBGC as contractors or as employees of contractors.

Categories of records in the system:

Investigatory material regarding an individual's character, conduct, and behavior, including: Records of arrests and convictions for violations of law; reports of interviews with the subject of the investigation and with persons such as present and former supervisors, neighbors, co-workers, associates, and educators who may have information about the subject of the investigation; reports about the qualifications of an individual for a specific position; reports of inquiries to law enforcement agencies, employers, and educational institutions; reports of action after an Office of Personnel Management (OPM) or Federal Bureau of Investigation field investigation; and other information or correspondence relating to or developed from the above.

This system of records is distinct from the OPM's Privacy Act system of records, OPM/Central-9 (Personnel Investigation Records), which covers records of personnel security investigations conducted by the OPM with respect to employees or applicants for employment with PBGC.

Authority for maintenance of the system:

29 U.S.C. 1302; 44 U.S.C. 3101; Executive Order 10450; 5 CFR § 5.2(c) and (d); 5 CFR parts 731 and 736; and OMB Circular No. A-130—Revised, Appendix III, 61 FR 6428.

Purpose(s):

This system of records is maintained to document investigations of individuals' character, conduct, and behavior. Records are used, in accordance with Federal personnel regulations, in making determinations relating to an individual's suitability and fitness for PBGC employment or work for PBGC as a contractor or as an employee of a contractor, access to information, and security clearance.

Routine uses of records maintained in the system, including categories of users and the purposes of such uses:

1. A record from this system of records may be disclosed to an authorized source from which information is requested in the course of an investigation, to the extent necessary to identify the individual, inform the source of the nature and purpose of the investigation, or identify the type of information requested.

2. A record from this system of records may be disclosed to OPM, the Merit Systems Protection Board, the Federal Labor Relations Authority, or the Equal Employment Opportunity Commission to carry out its authorized functions (under 5 U.S.C. 1103, 1204, and 7105, and 42 U.S.C. 2000e-4, in that order).

3. General Routine Uses G1 through G9 (see Prefatory Statement of General Routine Uses) apply to this system of records.

Disclosure to consumer reporting agencies:

None.

Policies and practices for storing, retrieving, accessing, retaining, and disposing of records in the system:

Storage:

Records are maintained in paper and electronic form, including magnetic tapes and discs.

Retrievability:

Records are indexed by name.

Safeguards:

Paper records are kept in file cabinets in areas of restricted access that are locked after office hours. Electronic records are stored on computer networks and protected by assigning user identification numbers to individuals needing access to the records and by passwords set by authorized users that must be changed periodically.

Retention and disposal:

Records are destroyed upon notification of death or not later than 5 years after separation or transfer of employee, or no later than 5 years after contract relationship expires, whichever is applicable.

Records are also maintained on PBGC's network back-up tapes.

System manager(s) and address:

Director, Facilities and Services Department, Pension Benefit Guaranty Corporation, 1200 K Street, NW., Washington, DC 20005-4026.

Notification procedure:

Procedures are detailed in PBGC regulations: 29 CFR Part 4902.

Record access procedures:

Same as notification procedure.

Contesting record procedures:

Same as notification procedure.

Record source categories:

Information contained in this system of records is obtained from the following: (a) Applications and other personnel and security forms; (b) personal interviews with the individual that is the subject of the investigation and with persons such as employers, references, neighbors, and associates who may have information about the subject of the investigation; (c) investigative records and notices of personnel actions furnished by other federal agencies; (d) sources such as educational institutions, police departments, credit bureaus, probation officials, prison officials, and doctors; and (e) public records such as court filings and publications such as newspapers, magazines, and periodicals.

Exemptions claimed for the system:

This system of records is exempt from the access and contest and certain other provisions of the Privacy Act (5 U.S.C. 552a(c)(3), (d), (e)(1), (e)(4)(G) through (I), and (f)) to the extent that disclosure would reveal the identity of a source who furnished information to PBGC under an express promise of confidentiality or, prior to September 27, 1975, under an implied promise of confidentiality (5 U.S.C. 552a(k)(5)).

PBGC-13

System name:

Debt Collection—PBGC.

Security classification:

Not applicable.

System location:

Pension Benefit Guaranty Corporation, 1200 K Street, NW., Washington, DC 20005-4026 and/or field benefit administrator, plan administrator, and paying agent worksites.

Categories of individuals covered by the system:

Anyone who may owe a debt to PBGC, including but not limited to: Employees and former employees of PBGC; individuals who are consultants and vendors to PBGC; participants and beneficiaries in terminating and terminated pension plans covered by Title IV of the Employee Retirement Income Security Act of 1974, as amended (ERISA), and individuals who received benefit payments to which they are not entitled.

Categories of records in the system:

Names; addresses; social security numbers; taxpayer identification numbers; employee number; travel vouchers and related documents filed by employees of PBGC; invoices filed by consultants and vendors to PBGC; records of benefit payments made to participants and beneficiaries in terminating and terminated pension plans covered by Title IV of ERISA; and other relevant records relating to the debt including the amount, status, and history of the debt, and the program under which the debt arose. The records listed herein are included only as pertinent or applicable to the individual debtor.

Authority for maintenance of the system:

29 U.S.C. 1302; 31 U.S.C. 3711(e) & (g); 44 U.S.C. 3101.

Purpose(s):

This system of records is maintained for the purpose of collecting debts owed to PBGC by various individuals, including, but not limited to, PBGC's employees and former employees, consultants and vendors, participants and beneficiaries in terminating and terminated pension plans covered by Title IV of ERISA, and individuals who received benefit payments to which they are not entitled. This system facilitates PBGC's compliance with the Debt Collection Improvement Act of 1996.

Routine uses of records maintained in the system, including categories of users and the purposes of such uses:

1. A record from this system of records may be disclosed to the United States Department of Treasury for cross-servicing to effect debt collection in accordance with 31 U.S.C. 3711(e).

2. General Routine Uses G1 and G4 through G9 (see Prefatory Statement of General Routine Uses) apply to this system of records.

Disclosure to consumer reporting agencies:

Information may be disclosed to a consumer reporting agency in accordance with 31 U.S.C. 3711(e) (5 U.S.C. 552a(b)(12)).

Policies and practices for storing, retrieving, accessing, retaining, and disposing of records in the system:

Storage:

Records are maintained in paper and electronic form, including magnetic tapes or discs.

Retrievability:

Records are indexed by any one or more of the following: employer identification number; social security number; plan number; and name of debtor, plan, plan sponsor, plan administrator, participant or beneficiary.

Safeguards:

Paper records are kept in file folders in areas of restricted access that are locked after office hours. Electronic records are stored on computer networks and protected by assigning user identification numbers to individuals needing access to the records and by passwords set by authorized users that must be changed periodically.

Retention and disposal:

Records relating to the debts of consultants and vendors are destroyed 6 years and 3 months after the date of the voucher, unless the transaction is at or below the simplified acquisition threshold, in which case records are destroyed 3 years after the date of final payment.

Records relating to debts of PBGC employees and former employees involving payroll, leave, attendance, and travel are maintained for various periods of time, as provided in National Archives and Records Administration General Records Schedules 2 and 9.

Records relating to debts of participants and beneficiaries in terminating and terminated pension plans covered by Title IV of ERISA are transferred to the Washington National Federal Records Center 6 months after either the final payment to a participant and/or beneficiary, or the PBGC's final determination that a participant or beneficiary is not entitled to any benefits, and are usually destroyed 7 years after such payment or determination.

Records relating to debts of other individuals are maintained until their disposition is authorized by the National Archives and Records Administration.

Records are also maintained on PBGC's network back-up tapes.

System manager(s) and address:

Director, Financial Operations Department, Pension Benefit Guaranty Corporation, 1200 K Street, NW., Washington, DC 20005-4026.

Notification procedure:

Procedures are detailed in PBGC regulations: 29 CFR part 4902.

Record access procedures:

Same as notification procedure.

Contesting record procedures:

Same as notification procedure.

Record source categories:

Subject individual, plan administrators, labor organization officials, firms or agencies providing locator services, and other Federal agencies.

Exemptions claimed for the system:

None.

PBGC-14

System name:

My Plan Administration Account Authentication Records—PBGC.

Security classification:

Not applicable.

System location:

Pension Benefit Guaranty Corporation, 1200 K Street, NW., Washington, DC 20005-4026.

Categories of individuals covered by the system:

Individuals who register to use the My PAA application to make PBGC filings and payments electronically via PBGC's Internet Web site (http://www.pbgc.gov), including individuals acting for plan sponsors, plan administrators, and pension practitioners such as enrolled actuaries and other benefit professionals.

Categories of records in the system:

Records include the user's name, work telephone number, work e-mail address, other contact information, a temporary, PBGC-issued user ID and password, a user-selected user ID and password, and a secret question/secret answer combination for authentication. Records maintained for each pension plan for which the user intends to participate in making filings with PBGC include the plan name, employer identification number (EIN), and plan number (PN); the plan administrator's name, address, phone number, and e-mail address; other contact information; and the role that the user will play in the filing process, e.g., creating and editing filings, signing filings electronically as the plan administrator, signing filings electronically as the enrolled actuary, or authorizing payments to PBGC.

Authority for maintenance of the system:

29 U.S.C. 1302, 1306, 1307, 1341, and 1343; 44 U.S.C. 3101.

Purpose(s):

This system of records is maintained for use in verifying the identity of, and authenticating actions taken by, individuals who register to use the My PAA application to make PBGC filings.

Routine uses of records maintained in the system, including categories of users and the purposes of such uses:

PBGC General Routine Uses G1, G4, G5, G6, G7, and G9 apply to this system of records (See Prefatory Statement of General Routine Uses).

Disclosure to consumer reporting agencies:

None.

Policies and practices for storing, retrieving, accessing, retaining, and disposing of records in the system:

Storage:

Records are maintained in automated form in computer databases maintained by PBGC.

Retrievability:

Records are indexed by name, user ID and password, and by plan name and EIN/PN.

Safeguards:

PBGC has adopted appropriate administrative, technical, and physical controls in accordance with PBGC's Automated Information Systems Security Program to protect the security, integrity, and availability of the information, and to assure that records are not disclosed to unauthorized individuals.

Retention and disposal:

Records are maintained in accordance with PBGC's established records disposition schedule for premium-related records.

System manager(s) and address:

Director, Financial Operations Department, Pension Benefit Guaranty Corporation, 1200 K Street, NW., Washington, DC 20005-4026.

Notification procedure:

Procedures are detailed in PBGC regulations: 29 CFR part 4902.

Record access procedures:

An individual may access his or her records via the My PAA application available on PBGC's Internet Web site (http://www.pbgc.gov), or by following the procedures outlined at 29 CFR part 4902.

Contesting record procedures:

Same as notification procedure.

Record source categories:

Subject individual and other registered users.

Exemptions claimed for the system:

None.

PBGC-15

System name:

PBGC-15, Emergency Notification Records—PBGC.

Security classification:

Not applicable.

System location:

Pension Benefit Guaranty Corporation, 1200 K Street, NW., Washington, DC 20005-4026.

Categories of individuals covered by the system:

PBGC employees and individuals who work for PBGC as contractors or as employees of contractors.

Categories of records in the system:

Records include name, title, organizational component, employer, PBGC and personal telephone numbers, PBGC and personal e-mail addresses, other contact information, user ID, a temporary, PBGC-issued password, and a user-selected password.

Authority for maintenance of the system:

29 U.S.C. 1302; 44 U.S.C. 3101; Executive Order 12656, 53 FR 47491 (1988); Presidential Decision Directive 67 (1998).

Purpose(s):

This system of records is maintained for use in notifying PBGC employees and individuals who work for PBGC as contractors or employees of contractors of PBGC's operating status in the event of an emergency, natural disaster or other event affecting PBGC operations; for contacting employees or contractors who are out of the office on leave or after regular duty hours to obtain information necessary for official business; or to contact friends or family members if an employee or contractor experiences a medical emergency in the workplace.

Routine uses of records maintained in the system, including categories of users and the purposes of such uses:

PBGC General Routine Uses G1, G4, G5, G7, and G9 apply to this system of records (See Prefatory Statement of General Routine Uses).

Disclosure to consumer reporting agencies:

None.

Policies and practices for storing, retrieving, accessing, retaining, and disposing of records in the system:

Storage:

Records are maintained in an electronic database that is available to authorized PBGC employees and contractors who have been granted access to PBGC's Intranet Web site. Paper printouts are also maintained by authorized PBGC personnel in accordance with PBGC's continuity of operations plan.

Retrievability:

Records are indexed by name, organizational component, or user ID and password.

Safeguards:

PBGC has adopted appropriate administrative, technical, and physical controls in accordance with PBGC's Automated Information Systems Security Program to protect the security, integrity, and availability of the information, and to assure that paper and electronic records are not disclosed to or accessed by unauthorized individuals.

Retention and disposal:

Records are maintained until they are superseded or obsolete.

System manager(s) and address:

Director, Facilities and Services Department, Pension Benefit Guaranty Corporation, 1200 K Street, NW., Washington, DC 20005-4026.

Notification procedure:

Procedures are detailed in PBGC regulations: 29 CFR part 4902.

Record access procedures:

An employee or contractor may access his or her record with a valid user-id and password via the electronic notification and messaging system through PBGC's Intranet Web site, or by following the procedures outlined at 29 CFR part 4902.

Contesting record procedures:

Same as notification procedure.

Record source categories:

Subject individual.

Exemptions claimed for the system:

None.

PBGC-16

System name:

PBGC-16, Employee Online Directory—PBGC

Security classification:

Not applicable.

System Location:

Pension Benefit Guaranty Corporation, 1200 K Street, NW., Washington, DC 20005-4026.

Categories of individuals covered by the system:

PBGC employees.

Categories of records in the system:

Employee's name, photograph, organizational component and title, supervisor's name, PBGC street address, room or workstation number, and telephone number and extension.

Authority for maintenance of the system:

29 U.S.C. 1302; 44 U.S.C. 3101.

Purpose(s):

This system of records is used by PBGC employees and employees of PBGC's contractors to identify other PBGC employees by name, face, organizational component or title, or supervisor, and to access contact information for PBGC employees.

Routine uses of records maintained in the system, including categories of users and the purposes of such uses:

PBGC General Routine Uses G1 through G9 apply to this system of records (See Prefatory Statement of General Routine Uses).

Disclosure to consumer reporting agencies:

Not applicable.

Policies and practices for storing, retrieving, accessing, retaining, and disposing of records in the system:

Storage:

Records are maintained in electronic format in a database that is available to authorized PBGC employees and employees of PBGC's contractors who have been granted access to PBGC's Intranet Web site.

Retrievability:

Records are retrieved by name, or organizational component.

Safeguards:

PBGC has adopted appropriate administrative, technical, and physical controls to protect the security, integrity, and availability of information maintained in electronic format, and to assure that records are not disclosed to or accessed by anyone who does not have a need-to-know to perform official duties.

Retention and disposal:

Records are maintained until the subject leaves PBGC employment.

System manager(s) and address:

Director, Communications and Public Affairs Department, Pension Benefit Guaranty Corporation, 1200 K Street, NW., Washington, DC 20005-4026.

Notification procedure:

Procedures are detailed in PBGC regulations: 29 CFR part 4902.

Record access procedures:

Same as notification procedures.

Contesting record procedures:

Same as notification procedure.

Record source categories:

Subject individual and PBGC personnel records.

Exemptions claimed for the system:

None.

PBGC-17

System name:

PBGC-17, Office of Inspector General Investigative File System—PBGC.

Security classification:

Not applicable.

System location:

Office of Inspector General, Pension Benefit Guaranty Corporation, 1200 K Street, NW., Washington, DC 20005-4026; Washington National Records Center, 4205 Suitland Road, Suitland, MD 20746-8001.

Categories of individuals covered by the system:

1. Persons who are named individuals in investigations conducted by OIG.

2. Complainants and subjects of complaints collected through the operation of the OIG Hotline.

3. Other individuals, including witnesses, sources, and members of the general public, who are named individuals in connection with investigations conducted by OIG.

Categories of records in the system:

Information within this system relates to OIG investigations carried out under applicable statutes, regulations, policies, and procedures. The investigations may relate to criminal, civil, or administrative matters. These OIG files may contain investigative reports; copies of financial, contractual, and property management records maintained by PBGC; background data including arrest records, statements of informants and witnesses, and laboratory reports of evidence analysis; search warrants, summonses and subpoenas; and other information related to investigations. Personal data in the system may consist of names, Social Security numbers, addresses, fingerprints, handwriting samples, reports of confidential informants, physical identifying data, voiceprints, polygraph tests, photographs, and individual personnel and payroll information.

Authority for maintenance of the system:

5 U.S.C. App. 3.

Purposes:

This system of records is used to maintain information related to investigations of criminal, civil, or administrative matters.

Routine uses of records maintained in system, including categories of users and purposes of such uses:

PBGC General Routine Uses G1, G2, G4, G5, G7, and G9 (see Prefatory Statement of General Routine Uses) apply to this system of records. In addition:

1. A record relating to a person held in custody pending or during arraignment, trial, sentence, or extradition proceedings or after conviction may be disclosed to a federal, state, local, or foreign prison; probation, parole, or pardon authority; or any other agency or individual involved with the maintenance, transportation, or release of such a person.

2. A record relating to a case or matter may be disclosed to an actual or potential party or his or her attorney for the purpose of negotiation or discussion on such matters as settlement of the case or matter, plea bargaining, or informal discovery proceedings.

3. A record may be disclosed to any source, either private or governmental, when reasonably necessary to elicit information or obtain the cooperation of a witness or informant when conducting any official investigation or during a trial or hearing or when preparing for a trial or hearing.

4. A record relating to a case or matter may be disclosed to a foreign country, through the United States Department of State or directly to the representative of such country, under an international treaty, convention, or executive agreement; or to the extent necessary to assist such country in apprehending or returning a fugitive to a jurisdiction that seeks that individual's return.

5. A record originating exclusively within this system of records may be disclosed to other federal offices of inspectors general and councils comprising officials from other federal offices of inspectors general, as required by the Inspector General Act of 1978, as amended. The purpose is to ensure that OIG audit and investigative operations can be subject to integrity and efficiency peer reviews, and to permit other offices of inspectors general to investigate and report on allegations of misconduct by senior OIG officials as directed by a council, the President, or Congress. Records originating from any other PBGC systems of records, which may be duplicated in or incorporated into this system, also may be disclosed with all personally identifiable information redacted.

6. A record may be disclosed to the Department of the Treasury and the Department of Justice when the OIG seeks an ex parte court order to obtain taxpayer information from the Internal Revenue Service.

7. A record may be disclosed to a “consumer reporting agency,” as that term is defined in the Fair Credit Reporting Act (15 U.S.C. 1681a(f)) and the Federal Claims Collection Act of 1966 (31 U.S.C. 3701(a)(3)), to obtain information in the course of an investigation, audit, or evaluations.

8. A record may be disclosed to any governmental, professional or licensing authority when such record reflects on qualifications, either moral, educational or vocational, of an individual seeking to be licensed or to maintain a license.

9. A record may be disclosed to any direct or indirect recipient of federal funds, e.g., a contractor, where such record reflects problems with the personnel working for a recipient, and disclosure of the record is made to permit a recipient to take corrective action beneficial to the government.

Policies and practices for storing, retrieving, accessing, retaining, and disposing of records in the system:

Storage:

The information in the records is maintained in a variety of media, including paper, magnetic tapes or discs, and an automated database. The records are maintained in limited access areas during all times; electronic records are maintained in computers and networks that require multiple individual identifications and passwords.

Records are also maintained on magnetic tapes and back-up hard drives.

Retrievability:

Records are indexed by name or other personal identifier, subject category, or assigned case number.

Safeguards:

Paper records, computers, and computer-storage media are located in controlled-access areas under supervision of program personnel. Access to these areas is limited to authorized personnel, who must be identified with a badge. Access to records is limited to individuals whose official duties require such access. Contractors and licensees are subject to contract controls and unannounced on-site audits and inspections. Computers are protected by mechanical locks, card-key systems, or other physical-access control methods. The use of computer systems is regulated with installed security software, computer-logon identifications, and operating-system controls including access controls, terminal and transaction logging, and file-management software.

Retention and disposal:

1. Official investigative case files, evidence and custody files, and informant files are retained up to 11 years after closeout of the investigation. If significant, the files are transferred to the National Archives and Records Administration.

2. Information reports, investigative analysis reports, and inquiry files are retained up to 6 years after closeout of the investigation.

3. Internal administrative reports are retained up to 3 years after closeout of the investigation.

Records existing on paper are destroyed by burning, pulping, or shredding. Records existing on computer storage media are destroyed according to the applicable PBGC media sanitization practice.

System manager(s) and address:

Inspector General, Pension Benefit Guaranty Corporation, 1200 K Street, NW., Washington, DC 20005-4026.

Notification procedure:

This system is exempt from the notification requirements. However, consideration will be given to inquiries made in compliance with 29 CFR 4902.3.

Record access procedures:

This system is exempt from the access requirements. However, consideration will be given to requests made in compliance with 29 CFR 4902.3.

Contesting record procedures:

Exempt. However, consideration will be given requests made in compliance with 29 CFR 4902.3.

Record source categories:

The information contained in this system may be derived or received from individual complainants, witnesses, interviews conducted during investigations, Federal, state and local government records, individual or company records, claim and payment files, employer medical records, insurance records, court records, articles from publications, financial data, bank information, telephone data, insurers, service providers, other law enforcement organizations, grantees and subgrantees, contractors and subcontractors, and other sources.

Systems exempted from certain provisions of the act:

Pursuant to 5 U.S.C. 552a(j) and (k), PBGC has established regulations at 29 CFR 4902.11 that exempt records in this system depending on their purpose.

[FR Doc. 2010-15872 Filed 6-29-10; 8:45 am]

BILLING CODE 7709-01-P